DEPARTMENT OF AGRICULTURE

Rural Utilities Service

Announcement of Grant Application Deadlines and Funding Levels; Correction

AGENCY: Rural Utilities Service, USDA.

ACTION: Notice of Solicitation of Applications; correction.

SUMMARY: The United States Department of Agriculture's (USDA) Rural Utilities Service (RUS) published a document in the Federal Register of March 4, 2011, announcing the availability of $25 million in funding for Fiscal Year (FY) 2011 for the Community Connect Grant Program. The document contained an incorrect website.

FOR FURTHER INFORMATION CONTACT: Thomas P. Dickson, 202-690-4492.

Correction

In the Federal Register of March 4, 2011, in FR Doc. 76-12017, on page 12022, in the first column, under the heading “Agency Contacts” correct the Web site to read:

A. Web site: http://www.rurdev.usda.gov/utp_commconnect.html.

Dated: March 3, 2011.
Jonathan Adelstein,
Administrator, Rural Utilities Service.

[FR Doc. 2011-5500 Filed 3-9-11; 8:45 am]

BILLING CODE 3410-15-P